COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete products and services from the Procurement List that were previously furnished by nonprofit agencies employing persons who are blind or have other severe disabilities.

COMMENTS MUST BE RECEIVED ON OR BEFORE: 9/2/2013.

ADDRESS: Committee for Purchase From People Who Are Blind or Severely Disabled, 1401 S. Clark Street, Suite 10800, Arlington, Virginia, 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 USC 8503 (a)(2) and 41 CFR 51-2.3. Its purpose is to provide interested persons an opportunity to submit comments on the proposed actions.

Deletions

The following products and services are proposed for deletion from the Procurement List:

Products

NSN: 7530-00-281-5908—Folder, File, Paperboard, Heavy Duty, ⅓ Cut Tab, Clear Sleeve, Kraft, Legal

NSN: 7530-00-281-5968—Folder, File, Paperboard, ⅓ Cut Tab, Clear Sleeve, Kraft, Letter

NPA: L.C. Industries for the Blind, Inc., Durham, NC

Contracting Activity: GENERAL SERVICES ADMINISTRATION, NEW YORK, NY

Stamp, Custom, Pre-Inked

NSN: 7510-01-368-3504—Ink Refill, Stamp, Pre-inked, Blue

NSN: 7510-01-381-8032—Ink Refill, Stamp, Pre-inked, Black

NSN: 7510-01-381-8062—Ink Refill, Stamp, Pre-inked, Red

NSN: 7520-01-419-6746—Stamp, Custom-made, Pre-inked, 1⅝″ x 4″

NPA: Industries of the Blind, Inc., Greensboro, NC

Contracting Activities: DEPARTMENT OF VETERANS AFFAIRS, NAC, HINES, IL GENERAL SERVICES ADMINISTRATION, NEW YORK, NY

Stamp Kit, Tile Stamp

NSN: 7520-01-453-1967—4 PC STAMPS KIT, “ROUTE-IT SET”

NSN: 7520-01-453-1968—4 PC STAMPS KIT, “ACCOUNTANT SET”

NSN: 7520-01-453-1969—4 PC STAMPS KIT, “MAIL ROOM SET”

NPA: Industries of the Blind, Inc., Greensboro, NC

Contracting Activity: GENERAL SERVICES ADMINISTRATION, NEW YORK, NY

NSN: 7530-00-238-4319—Card, Index

NPA: Louisiana Association for the Blind, Shreveport, LA

Contracting Activity: GENERAL SERVICES ADMINISTRATION, NEW YORK, NY

NSN: 7930-01-418-1102—EcoLab Water Soluble Cleaners/Detergents

NPA: Association for the Blind and Visually Impaired—Goodwill Industries of Greater Rochester, Rochester, NY

Contracting Activity: GENERAL SERVICES ADMINISTRATION, FORT WORTH, TX

Safety-Walk, Tapes & Treads

NSN: 7220-00-NIB-0136—710 Black Coarse Tape

NSN: 7220-00-NIB-0137—610 Black General Purpose

NSN: 7220-00-NIB-0138—620 Clear General Purpose

NSN: 7220-00-NIB-0139—630 Yellow General Purpose

NSN: 7220-00-NIB-0140—660 Brown General Purpose

NSN: 7220-00-NIB-0141—510 Black Conformable

NSN: 7220-00-NIB-0043—620 Clear General Purpose

NSN: 7220-00-NIB-0044—620 Clear General Purpose

NSN: 7220-00-NIB-0045—620 Clear General Purpose

NPA: Louisiana Association for the Blind, Shreveport, LA

Contracting Activity: GENERAL SERVICES ADMINISTRATION, NEW YORK, NY

Services

Service Type/Location: Custodial Service, Akron Canton Regional Airport, 5400 Lauby Road NW., North Canton, OH.

NPA: The Workshops, Inc. Canton, OH (Deleted)

Contracting Activity: GENERAL SERVICES ADMINISTRATION, FPDS AGENCY COORDINATOR, WASHINGTON, DC

Service Type/Location: Microfilming Tax Forms Service, Internal Revenue Service, Cincinnati, OH.

NPA: Richland County Board of Developmental Disabilities, Mansfield, OH (Deleted)

Contracting Activity: DEPARTMENT OF THE TREASURY, WASHINGTON, DC

Barry S. Lineback,
Director, Business Operations.

[FR Doc. 2013-18651 Filed 8-1-13; 8:45 am]

BILLING CODE 6353-01-P